DEPARTMENT OF TRANSPORTATION

Federal Aviation Administration

14 CFR Part 71

[Docket No. FAA-2016-3695; Airspace Docket No. 16-AGL-5]

Amendment of Class E Airspace for the Following North Dakota Towns; Harvey, ND, and Rolla, ND

AGENCY: Federal Aviation Administration (FAA), DOT.

ACTION: Final rule.

SUMMARY: This action amends Class E airspace by updating the geographic coordinates at Harvey Municipal Airport, Harvey, ND; and Rolla Municipal Airport, Rolla, ND. The coordinates for Minot AFB and the Devils Lake VHF Omnidirectional Range/Distance Measuring Equipment (VOR/DME) are also updated to coincide with the FAA's database.

DATES: Effective 0901 UTC, May 26, 2016. The Director of the Federal Register approves this incorporation by reference action under Title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 29591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: Jeffrey Claypool, Federal Aviation Administration, Operations Support Group, Central Service Center, 10101 Hillwood Parkway, Fort Worth, TX, 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Harvey Municipal Airport, Harvey, ND; and Rolla Municipal Airport, Rolla, ND.

History

In a review of the airspace, the FAA found the airspace for Harvey Municipal Airport, Harvey, ND; and Rolla Municipal Airport, Rolla, ND, as published in FAA Order 7400.9Z, Airspace Designations and Reporting Points, required the geographic coordinates of the above airports, Minot AFB, Minot, ND; and the Devil's Lake VOR/DME to be updated. This is an administrative change and does not affect the boundaries or operating requirements of the above airports.

Class E airspace designations are published in paragraph 6005 of FAA Order 7400.9Z dated August 6, 2015, and effective September 15, 2015, which is incorporated by reference in 14 CFR 71.1. The Class E airspace designations listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This action amends Title 14, Code of Federal Regulations (14 CFR) part 71, updating the geographic coordinates for Class E airspace extending upward from 700 feet above the surface at Harvey Municipal Airport, Harvey, ND; Rolla Municipal Airport, Rolla, ND; Minot AFB, Minot ND; and the Devils Lake VOR/DME to coincide with the FAA's aeronautical database.

This is an administrative change amending the description for Harvey Municipal Airport and Rolla Municipal Airport to be in concert with the FAA's aeronautical database, and does not affect the boundaries, or operating requirements of the airspace; therefore, notice and public procedure under 5 U.S.C. 553(b) are unnecessary.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, effective September 15, 2015, is amended as follows:

Paragraph 6005 Class E Airspace Areas Extending Upward From 700 Feet or More Above the Surface of the Earth.

* * * * *

AGL ND E5 Harvey, ND [Amended]

Harvey Municipal Airport, ND

(Lat. 47°47′28″ N., long 99°55′54″ W.)

Minot AFB, ND

(Lat. 48°24′57″ N., long. 101°21′29″ W.)

Bismarck VOR/DME

(Lat. 46°45′42″ N., long. 100°39′55″ W.)

Devils Lake VOR/DME

(Lat. 48°06′55″ N., long. 98°54′45″ W.)

That airspace extending upward from 700 feet above the surface within a 6.3-mile radius of Harvey Municipal Airport; and that airspace extending upward from 1,200 feet above the surface bounded on the north by V-430, on the west by the 47-mile radius of Minot AFB, on the southwest by V-15, on the south by the Bismarck VOR/DME 36-mile radius, on the southeast by V-169, and on the east by the Devils Lake VOR/DME 22-mile radius; and that airspace extending upward from 1,200 feet above the surface bounded on the northwest by V-169, on the south by latitude 47°30′00″ N., and on the east by longitude 99°19′00″ W., excluding all Federal airways.

* * * * *

AGL ND E5 Rolla, ND [Amended]

Rolla Municipal Airport, ND

(Lat. 48°53′04″ N., long. 99°37′15″ W.)

Devils Lake VOR/DME

(Lat. 48°06′55″ N., long. 98°54′45″ W.)

That airspace extending upward from 700 feet above the surface within a 7.3-mile radius of Rolla Municipal Airport, excluding that airspace north of lat. 49°00′00″ N.; and that airspace extending upward from 1,200 feet above the surface within an area bounded on the north by lat. 49°00′00″ N., on the east by long. 99°00′00″ W., on the southeast by the 22-mile arc of the Devils Lake VOR/DME, on the south by V-430, on the southwest by the Rugby, ND, Class E airspace area, and on the west by long. 99°49′00″ W.

Issued in Fort Worth, Texas, on February 19, 2016.
Walter Tweedy,
Acting Manager, Operations Support Group, ATO Central Service Center.

[FR Doc. 2016-04202 Filed 3-3-16; 8:45 am]

BILLING CODE 4910-13-P